DEPARTMENT OF HEALTH AND HUMAN SERVICES

National Institutes of Health

Eunice Kennedy Shriver National Institute of Child Health & Human Development; Amended Notice of Meeting

Notice is hereby given of a change in the meeting of the Pediatrics Subcommittee, October 08, 2020, 8:00 a.m. to October 08, 2020, 5:00 p.m., National Institute of Child Health and Human Development, 6710B Rockledge Drive, Bethesda, MD 20892 which was published in the Federal Register on August 14, 2020, 85 FR 49662.

The meeting format has changed from a Virtual Meeting to a Video Assisted Meeting.

The meeting is closed to the public.

Dated: September 4, 2020.
Ronald J. Livingston, Jr.,
Program Analyst, Office of Federal Advisory Committee Policy.

[FR Doc. 2020-20051 Filed 9-10-20; 8:45 am]

BILLING CODE 4140-01-P